NATIONAL SCIENCE FOUNDATION

Proposal Review Panel for Physics; Notice of Meeting

In accordance with the Federal Advisory Committee Act (Pub. L. 92-463, as amended), the National Science Foundation announces the following meeting:

Name: Proposal Review Panel for the Division of Physics (1208) (V161030)—Site Visit.

Date and Time: May 5, 2016; 8:30 a.m.-7:00 p.m.; May 6, 2016; 8:30 a.m.-3:00 p.m.

Place: University of Chicago, Chicago, IL 60637 (KICP).

Type of Meeting: Part-Open.

Contact Person: Jean Cottam-Allen, Program Director for Physics Frontier Centers, Division of Physics, National Science Foundation, 4201 Wilson Blvd., Room 1015, Arlington, VA 22230; Telephone: (703) 292-8783.

Purpose of Meeting: Site visit to provide an evaluation of the progress of the projects at the host site for the Division of Physics at the National Science Foundation.

Agenda

May 5, 2016; 8:30 a.m.-7:00 p.m.

08:30 Panel Session: Presentations on Center Overview, Management and Science

12:00 p.m. Lunch with Graduate Students and Postdocs

13:30 Panel Session: Continued Science Presentations, Education and Outreach

16:00 Executive Session—CLOSED SESSION

17:00 Poster Session

19:00 Executive Session—CLOSED SESSION

May 6, 2016; 8:30 a.m.-3:00 p.m.

08:30 Meeting with University Administrators

To 11:00 Discussion with Center Directors

11:00 Executive Session—CLOSED SESSION

15:00 Closeout Session with Center Directors

Reason for Closing: Topics to be discussed and evaluated during the site review will include information of a proprietary or confidential nature, including technical information and information on personnel. These matters are exempt under 5 U.S.C. 552b(c), (4) and (6) of the Government in the Sunshine Act.

Dated: March 15, 2016.
Crystal Robinson,
Committee Management Officer.

[FR Doc. 2016-06159 Filed 3-17-16; 8:45 am]

BILLING CODE 7555-01-P